DEPARTMENT OF HEALTH AND HUMAN SERVICES

Indian Health Service

Request for Public Comment: 60-Day Information Collection: Indian Health Service Purchased/Referred Care Proof of Residency (OMB No. 0917-0040)

AGENCY: Indian Health Service.

ACTION: Notice and request for comments; request for extension of approval.

SUMMARY: In compliance with the Paperwork Reduction Act of 1995, which requires 60 days for public comment on proposed information collection projects, the Indian Health Service (IHS) invites the general public to take this opportunity to comment on the information collection Office of Management and Budget (OMB) Control Number 0917-0040, titled, Purchased/Referred Care Proof of Residency. The purpose of this notice is to allow 60 days for public comment. A copy of the supporting statement is available at www.regulations.gov (see Docket ID: IHS_FRDOC_0001).

DATES: March 25, 2022. Your comments regarding this information collection are best assured of having full effect if received within 60 days of the date of this publication.

For Comments: Submit comments to (Mr. Robert Jim Lyon) by Email at Robert.Lyon@ihs.gov.

Comments submitted in response to this notice will be made available to the public by publishing them in the 30-day Federal Register notice for this information collection. For this reason, please do not include information of a confidential nature, such as sensitive personal information or proprietary information. If comments are submitted via email, the email address will be automatically captured and included as part of the comment that is placed in the public docket and made available on the internet. Please note that responses to this public comment request containing any routine notice about the confidentiality of the communication will be treated as public comments that may be made available to the public notwithstanding the inclusion of the routine notice.

FOR FURTHER INFORMATION CONTACT: To request additional information, please contact Evonne Bennett, Information Collection Clearance Officer at: Evonne.Bennett@ihs.gov or 301-443-4750.

SUPPLEMENTARY INFORMATION: This previously approved information collection project was last published in the Federal Register on September 25, 2018, and allowed 30 days for public comment. No public comment was received in response to the notice. This notice announces our intent to submit this collection, which expires March 31, 2022, to OMB for approval of an extension, and to solicit comments on specific aspects for the proposed information collection. Title: Purchased/Referred Care Proof of Residency. OMB Control Number: 0917-0040. Need and Use of Information Collection: The IHS Purchased/Referred Care Program needs the information requested on the PRC Proof of Residency form to verify that individuals seeking medical services through a PRC program meet the residency requirements specific to PRC under 42 CFR 136.23. Agency Form Number: IHS 976. Members of Affected Public: Individuals/Households. Status of the Proposed Information Collection: Renewal request. Type of Respondents: Individuals. The table below provides: Types of data collection instruments, Estimated number of respondents, Number of responses per respondent, Annual number of responses, Average burden hour per response, and Total annual burden hours.

Data collection instrument(s) | Estimated number of respondents | Responses per respondent | Annual number of responses | Average burden hour per response * | Total annual burden hours
Individual Patient Count | 77,185 | 1 | 77,185 | 3/60 | 3,859.25
Total | 77,185 | 1 | 77,185 | 3/60 | 3,859.25
* For ease of understanding, the average burden per response is 3 minutes.

There are no direct costs to respondents to report.

Requests for Comments: Your written comments and/or suggestions are invited on one or more of the following points:

(a) Whether the information collection activity is necessary to carry out an agency function;

(b) whether the agency processes the information collected in a useful and timely fashion;

(c) the accuracy of the public burden estimate (the estimated amount of time needed for individual respondents to provide the requested information);

(d) whether the methodology and assumptions used to determine the estimates are logical;

(e) ways to enhance the quality, utility, and clarity of the information being collected; and

(f) ways to minimize the public burden through the use of automated, electronic, mechanical, or other technological collection techniques or other forms of information technology.

Elizabeth A. Fowler,
Acting Deputy Director, Indian Health Service.

[FR Doc. 2022-01250 Filed 1-21-22; 8:45 am]

BILLING CODE 4165-16-P